DEPARTMENT OF TRANSPORTATION

Federal Aviation Administration

14 CFR Part 39

[Docket No. 2002-CE-23-AD]

RIN 2120-AA64

Airworthiness Directives; Cessna Aircraft Company Models 208 and 208B Airplanes

AGENCY: Federal Aviation Administration, DOT.

ACTION: Notice of proposed rulemaking (NPRM).

SUMMARY: This document proposes to adopt a new airworthiness directive (AD) that would apply to all Cessna Aircraft Company (Cessna) Models 208 and 208B airplanes. This proposed AD would require you to repetitively inspect the inboard forward flap bellcranks for cracks or replace bellcranks depending on the amount of usage. This proposed AD is the result of Cessna re-evaluating the bellcrank life limit analysis and determining that the original estimate is too high. The actions specified by this proposed AD are intended to detect, correct, and prevent future cracks in the bellcrank, which could result in failure of this part. Such failure could lead to damage to the flap system and surrounding structure and result in reduced or loss of control of the airplane.

DATES: The Federal Aviation Administration (FAA) must receive any comments on this proposed rule on or before August 28, 2002.

ADDRESSES: Submit comments to FAA, Central Region, Office of the Regional Counsel, Attention: Rules Docket No. 2002-CE-23-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-23-AD” in the subject line. If you send comments electronically as attached electronic files, the files must be formatted in Microsoft Word 97 for Windows or ASCII text.

You may get service information that applies to this proposed AD from Cessna Aircraft Company, Product Support, P.O. Box 7706, Wichita, Kansas 67277; telephone: (316) 517-5800; facsimile: (316) 942-9006. You may also view this information at the Rules Docket at the address above.

FOR FURTHER INFORMATION CONTACT: Paul Nguyen, Aerospace Engineer, FAA, Aircraft Certification Office, 1801 Airport Road, Room 100, Wichita, Kansas 67209; telephone: 316-946-4125; facsimile: 816-946-4407.

SUPPLEMENTARY INFORMATION:

Comments Invited

How do I comment on this proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment?

If you want FAA to acknowledge the receipt of your mailed comments, you must include a self-addressed, stamped postcard. On the postcard, write “Comments to Docket No. 2002-CE-23-AD.” We will date stamp and mail the postcard back to you.

Discussion

What events have caused this proposed AD?

A search by the FAA of the service difficulty database has revealed 10 cracked bellcrank incidents on Cessna Models 208 and 208B airplanes. As a result, Cessna has re-evaluated the bellcrank life limit analysis and detemined 7,000 landings is more accurate than the original estimate of 9,000 landings. Cessna has revised the Models 208 and 208B Maintenance Manual and developed a service bulletin to notify the public that the inboard forward flap bellcrank life limit has been reduced to 7,000 landings. Since some Model 208 airplanes have exceeded 7,000 landings, we have determined that an AD is necessary to require replacement of the bellcrank in those airplanes.

What are the consequences if the condition is not corrected?

If not detected and corrected, a cracked bellcrank could fail. Such failure could lead to damage to the flap system and surrounding structure and result in reduced or loss of control of the airplane.

Is there service information that applies to this subject?

Cessna has issued Service Bulletin No. CAB02-1, dated February 11, 2002.

What are the provisions of this service information?

The service bulletin includes procedures for:

-Inspecting using eddy current methods, the inboard forward flap bellcrank for cracks; and

—Replacing bellcranks.

The FAA's Determination and an Explanation of the Provisions of This Proposed AD

What has FAA decided?

After examining the circumstances and reviewing all available information related to the incidents described above, we have determined that:

—The unsafe condition referenced in this document exists or could develop on other Cessna Models 208 and 208B airplanes of the same type design;

—The life limits of the bellcranks should be reduced from 9,000 landings to 7,000 landings;

—The actions specified in the previously-referenced service information should be accomplished on the affected airplanes; and

—AD action should be taken in order to correct this unsafe condition.

What would this proposed AD require?

This proposed AD would require you to incorporate the actions in the previously-referenced service bulletin.

Cost Impact

How many airplanes would this proposed AD impact?

We estimate that this proposed AD affects 1,300 airplanes in the U.S. registry.

What would be the cost impact of this proposed AD on owners/operators of the affected airplanes?

We estimate the following costs to accomplish the proposed inspection:

Labor cost | Parts cost | Total cost per airplane | Total cost on U.S. operators
1 workhour × $60 per hour=$60. | No cost for parts | $60 | $60 × 1,300=$78,000.

We estimate the following costs to accomplish any necessary replacements that would be required based on the reduced life limits:

Labor cost | Parts cost | Total cost per airplane | Total cost on U.S. operators
3 workhours × $60 per hour=$180 | $1,793 | $180 + $1,973=$1,973 | $1,973 × 1,300=$2,564,900.

Regulatory Impact

Would this proposed AD impact various entities?

The regulations proposed herein would not have a substantial direct effect on the States, on the relationship between the national government and the States, or on the distribution of power and responsibilities among the various levels of government. Therefore, it is determined that this proposed rule would not have federalism implications under Executive Order 13132.

Would this proposed AD involve a significant rule or regulatory action?

For the reasons discussed above, I certify that this proposed action (1) Is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations(14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

CESSNA AIRCRAFT COMPANY: Docket No. 2002-CE-23-AD.

(a) What airplanes are affected by this AD? This AD affects Models 208 and 208B airplanes, all serial numbers, that are certificated in any category.

(b) Who must comply with this AD? Anyone who wishes to operate any of the airplanes identified in paragraph (a) of this AD must comply with this AD.

(c) What problem does this AD address? The actions specified by this AD are intended to detect, correct, and prevent cracks in the bellcrank, which could result in failure of this part. Such failure could lead to damage to the flap system and surrounding structure and result in reduced or loss of control of the airplane.

(d) What actions must I accomplish to address this problem? To address this problem, you must accomplish the following:

Actions | Compliance | Procedures
(1) Inspect, using eddy current inspection, the inboard forward flap bellcrank for cracks | Initially inspect upon accumulation of 4,000 landings on the bellcrank or within the next 250 landings after the effective date of this AD, whichever occurs later. Repetitively inspect thereafter at every 500 landings until 7,000 landings are accumulated | In accordance with the Inspection Instructions of Cessna Service Bulletin No. CAB02-1, dated February 11, 2002, and the applicable maintenance manual.
(2) Replace the inboard forward flap bellcrank | Prior to further flight when cracks are found; and upon the accumulation of 7,000 landings or within the next 75 landings after the effective date of this AD, whichever occurs later | In accordance with the Inspection Instructions of Cessna Bulletin No. CAB02-1, dated February 11, 2002, and the applicable maintenance manual.

Note 1: Inboard forward flap bellcranks with 7,000 landings or more do not have to be replaced until 75 landings after the effective date of this AD.

Note 2: The compliance times of this AD are presented in landings instead of hours. If the number of landings is unknown, hours TIS may be used by multiplying the number of hours TIS by 1.25.

(e) Can I comply with this AD in any other way? You may use an alternative method of compliance or adjust the compliance time if:

(1) Your alternative method of compliance provides an equivalent level of safety; and

(2) The Manager, Wichita Aircraft Certification Office, approves your alternative. Submit your request through an FAA Principal Maintenance Inspector, who may add comments and then send it to the Manager, Wichita Aircraft Certification Office.

Note 3: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Paul Nguyen, Aerospace Engineer, FAA, Aircraft Certification Office, 1801 Airport Road, Room 100, Wichita, Kansas 67209; telephone: 316-946-4125; facsimile: 816-946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Cessna Aircraft Company, Product Support, P.O. Box 7706, Wichita, Kansas 67277; telephone: (316) 517-5800; facsimile: (316) 942-9006. You may view these documents at FAA, Central Region, Office of the Regional Counsel, 901 Locust, Room 506, Kansas City, Missouri 64106.

Issued in Kansas City, Missouri, on June 14, 2002.
Dorenda D. Baker,
Acting Manager, Small Airplane Directorate, Aircraft Certification Service.

[FR Doc. 02-15804 Filed 6-25-02; 8:45 am]

BILLING CODE 4910-13-P